DEPARTMENT OF THE INTERIOR

National Park Service

National Register of Historic Places; Notification of Pending Nominations and Related Actions

Nominations for the following properties being considered for listing or related actions in the National Register were received by the National Park Service before May 24, 2008. Pursuant to § 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by June 24, 2008.

J. Paul Loether,
Chief, National Register/National Historic Landmarks Program.

ARKANSAS

Sebastian County

May—Lecta—Sweet Historic District, Roughly bounded by May Ave., Rogers Ave., Sweet Ave., and Kinkead Ave., Fort Smith, 08000597.

CALIFORNIA

Los Angeles County

Pasadena Arroyo Parks and Recreation District, Roughly bounded by the Foothill Freeway on the north, the city limits on the south, Arroyo Blvd on east, San Rafael, Pasadena, 08000579.

COLORADO

Larimer County

Buckeye School, (Rural School Buildings in Colorado MPS) off W. Cty. Rd. 80, Wellington, 08000599

KANSAS

Barton County

Bridge No. 222—Off System Bridge, (New Deal-Era Resources of Kansas MPS) NE 60 Ave. S. and NE. 210 Rd., ⅛ mile East on 210 Rd., Beaver, 08000608.

Bridge No. 640 Federal Aid Highway System Bridge, (New Deal-Era Resources of Kansas MPS) NE 60 Ave., ⅛ mile north of NE 210 Rd., Beaver, 08000611.

Bridge No. 650—Federal Aid Highway System Bridge, (New Deal-Era Resources of Kansas MPS) NE 60 Ave., 1/12 mile south of NE 220 Rd., Beaver, 08000612.

Bourbon County

First Presbyterian Church, 308 S. Crawford, Fort Scott, 08000619.

Doniphan County

First National Bank Building, (Highland, Doniphan County, Kansas MPS) 422-424 W. Main St., Highland, 08000609.

Douglas County

Fernand—Strong, House, (Lawrence, Kansas MPS) 1515 University Dr., Lawrence, 08000614.

Linn County

Prescott Rural High School, (Public Schools of Kansas MPS) 202 West 4th St., Prescott, 08000610.

Nemaha County

Lake Nemaha Dam Guardrail, (New Deal-Era Resources of Kansas MPS) 5.12 miles south of Seneca, KS on Hwy 63,Seneca, 08000620.

KANSAS

Phillips County

Agra Lake and Park, (New Deal-Era Resources of Kansas MPS) ¼ mile north of Hwy 36, west edge of Agra, Agra, 08000616.

Reno County

Hamlin Block, (Commercial and Industrial Resources of Hutchinson MPS) 304-306 S. Main, Hutchinson, 08000613.

Saline County

Lee, H.D., Company Complex, 248 N. Santa Fe, Salina, 08000618.

Sedgwick County

Dunbar Theatre, (Theaters and Opera Houses of Kansas MPS) 1007 N. Cleveland,Wichita, 08000615.

Shawnee County

Church of the Assumption and Rectory, 204 SW 8th St., Topeka, 08000607.

Wabaunsee County

Brandt Hotel, 400 Missouri St., Alma, 08000617.

MICHIGAN

Charlevoix County

East Jordan Lumber Company Store Building, 104 Main St., East Jordan, 08000586.

Votruba Block, 112 Main St., East Jordan, 08000585.

Iron County

Central School, 218 W. Cayuga St., Iron River, 08000584.

Marquette County

Marquette and Western Railroad Negaunee Freight Depot, 420 Rail St., Negaunee, 08000587.

Wayne County

Garden Bowl, 4104-4120 Woodward Ave., Detroit, 08000578.

Majestic Theater, 4126-4140 Woodward Ave., Detroit, 08000577.

Newberry, Helen, Nurses Home, 100 E. Willis, Detroit, 08000576.

NEBRASKA

Burt County

Guhl, William and Emma, Farmhouse, 1560 Hwy 77, Oakland, 08000600.

Douglas County Barker Building, 306 S. 15th St., Omaha, 08000605.

Park Avenue Apartment District, 2935 Leavenworth St., 804 Park Ave., 803 S. 30th St., 2934 Leavenworth St., 720 Park Ave., 721 S. 30th St., Omaha, 08000602.

Selma Terrace, 630, 634 and 636 Park Ave., Omaha, 08000603.

Terrace Court, 836, 840 and 842 Park Ave., Omaha, 08000604.

Gage County

Schmuchk, J., Block, 113 N. 5th St., Beatrice, 08000598.

Hall County

Shady Bend Gas Station, Grocery, and Diner, (Lincoln Highway in Nebraska MPS) 3609 E. Hwy 30, Grand Island, 08000601.

NEW MEXICO

Curry County

Hillcrest Park Archway, (New Deal in New Mexico MPS) Intersection of E. 10th and Sycamore St., approximately 2,757′ east of intersection of 10th and Prince St., Clovis, 08000573.

De Baca County

Fort Sumner Cemetery Wall and Entry, (New Deal in New Mexico MPS) 17th and Dunn St., 1 mile north of intersection of 17th and U.S. 60, Fort Sumner, 08000575.

Lea County

Lovington Fire Department Building, (New Deal in New Mexico MPS) 209 S. Love St., Lovington, 08000574.

NEW YORK

Albany County

Clarksville Elementary School, 58 Verda Ln. Clarksville, 08000580.

Dutchess County

Storm—Adriance—Brinckerhoff House, 451 Beekman Rd. East Fishkill, 08000581.

Oneida County

Calvary Episcopal Church (former), 1101 Howard Ave. Utica, 08000595.

Utica Parks and Parkway Historic District, Parkway and Pleasant St. Utica, 08000594.

Rensselaer County

District No. 6 Schoolhouse, Brick Church Rd. and Buck Rd. Brunswick, 08000582.

Rockland County

DePew, Peter, House, 101 Old Rte 204, New City, 08000596.

St. Paul's Episcopal Church, 26 S. Madison Ave. Spring Valley, 08000593.

OHIO

Cuyahoga County

Ansel Road Apartment Buildings Historic District, 1588 Ansel Rd. to 9501 Wade Park Ave. Cleveland, 08000589.

Franklin County

Ealy, George and Christina, House, 6359 Dublin-Granville Rd., New Albany, 08000626.

Hamilton County

Hatch, George, House, 830 Dayton St. Cincinnati, 08000583.

Verona Apartments, 2356 Park Ave., Cincinnati, 08000625.

Mahoning County

Burt Building, 325-327 W. Federal St, Youngstown, 08000588.

Medina County

Medfair Heights Apartment Historic District, 221 N. State St., Medina, 08000624.

Montgomery County

Dayton Canoe Club, 1020 Riverside Dr. Dayton, 08000591.

Ottawa County

Island House, 102 Madison St., Port Clinton, 08000623.

Portage County

Byers, John F., House, 5551 S. Prospect, Ravenna, 08000590.

Summit County

South Main Street Historic District, 156-222 S. Main St., 153-279 S. Main St., Akron, 08000622.

RHODE ISLAND

Newport County

Southern Thames Historic District, Thames St. from Memorial Blvd south to Morton Ave., Newport, 08000592.

SOUTH CAROLINA

Florence County

Florence Downtown Historic District, Portions of W. Evans, North Dargan St., and S. Dargan St, Florence, 08000621.

WISCONSIN

Milwaukee County

Saint James Court Apartments, 831 W. Wisconsin Ave., Milwaukee, 08000606.

[FR Doc. E8-12812 Filed 6-6-08; 8:45 am]

BILLING CODE 4310-70-P